DEPARTMENT OF ENERGY

Tribal Leaders Summit: Solicitation of Comments

AGENCY: Department of Energy.

ACTION: Notice of Comment Period.

SUMMARY: The Department of Energy is soliciting comments related to the implementation of its American Indian and Alaska Native Tribal Government Policy and its interactions with tribal governments.

DATES: Interested parties should submit comments in writing on or before April 30, 2004.

ADDRESSES: Fax comments to (202) 586-7314, attention Kristen Ellis. If you are unable to send your comments by fax, please contact Kristen Ellis, telephone (202) 586-5810, to make other arrangements.

FOR FURTHER INFORMATION CONTACT: Kristen Ellis, (202) 586-5810.

SUPPLEMENTARY INFORMATION: The Department of Energy hosted the first DOE/Tribal Leaders Summit on February 23, 2004 in Washington, DC.

This event followed the government-to-government format required for interactions with tribal governments, and was therefore not open to the public. The goal of the Summit was to identify successes and barriers to communication between tribal entities and the Department, and to work towards developing a framework for future interactions.

Various DOE Program Offices presented information of possible interest to tribes, including the offices of Energy Efficiency and Renewable Energy, Economic Impact and Diversity, Nuclear Energy, Science and Technology, Environmental Management, and the National Nuclear Security Administration. Tribal representatives from the National Congress of American Indians (NCAI), Council for Energy Resource Tribes (CERT), the Southern Ute nation, and the DOE State and Tribal Government Working Group (STGWG) also addressed the participants with their individual, tribal and/or organizational perspective.

At the Summit, the Department announced a period to solicit further comments from tribal participants. Comments might address future topical or regional summits, protocols, or departmental goals or procedures that affect tribes. With this notice, the Department is soliciting comments from all interested stakeholders, including state or local governments or those living or working near the Department's sites or who otherwise may be affected by the Department's activities related to tribes. Although the Department will accept comments from any source, it is primarily interested in comments from any interested Tribal leader or Tribal leader's representative, whether or not they attended the summit. These comments will be considered by the Department as it implements its policy. A copy of the comment form distributed at the Summit is available at http://www.ci.doe.gov.

Rick A. Dearborn,
Assistant Secretary, Congressional and Intergovernmental Affairs.

[FR Doc. 04-6797 Filed 3-25-04; 8:45 am]

BILLING CODE 6450-01-P